ENVIRONMENTAL PROTECTION AGENCY

[FRL-7513-3]

EPA National Advisory Council for Environmental Policy and Technology Notification of Public Advisory Committee Teleconference Meeting

AGENCY: U.S. Environmental Protection Agency (EPA).

ACTION: Notification of Public Advisory Committee Teleconference Meeting.

SUMMARY: Pursuant to the Federal Advisory Committee Act, Public Law 92-463, notice is hereby given that the National Advisory Council for Environmental Policy and Technology (NACEPT) will meet in a public teleconference on Monday, July 7, 2003, from 3 p.m. to 4:30 p.m. Eastern Time. The meeting will be hosted out of the main conference room, U.S. EPA, 655 15th Street, NW., Suite 800, Washington, DC 20005. The meeting is open to the public, however, due to limited space, seating will be on a registration-only basis. For further information regarding the teleconference meeting, or how to register and obtain the phone number, please contact the individual listed below.

Background: NACEPT is a federal advisory committee under the Federal Advisory Committee Act, PL 92463. NACEPT provides advice and recommendations to the Administrator and other EPA officials on a broad range of domestic and international environmental policy issues. NACEPT consists of a representative cross-section of EPA's partners and principle constituents who provide advice and recommendations on policy issues and serve as a sounding board for new strategies that the Agency is developing. A subset of NACEPT is organized as the Report on the Environment (ROE) Workgroup.

Purpose of Meeting: The NACEPT Council will review and comment on the draft advice letter developed by the NACEPT Report on the Environment Workgroup. The Council was asked by EPA's Office of Environmental Information and the Office of Research and Development to provide perspective and input on the types of questions and issues that should be highlighted during the national dialogue meetings that EPA will schedule following the release of EPA's Draft Report on the Environment.

Availability of Review Materials: If you wish to receive a copy of the draft advice letter from the NACEPT ROE Workgroup, please contact Ms. Altieri at (202) 233-0061.

FOR FURTHER INFORMATION CONTACT: Members of the public wishing to gain access to the conference room on the day of the meeting must contact Ms. Sonia Altieri, Designated Federal Officer for NACEPT, U.S. Environmental Protection Agency (1601E), Office of Cooperative Environmental Management, 655 15th Street, NW., Suite 800, Washington, DC 20005; telephone/voice mail at (202) 233-0061 or via email at altieri.sonia@epa.gov.

The agenda will be available to the public upon request. Written comments for NACEPT's consideration should be submitted no later than Wednesday, July 2, 2003.

General Information: Additional information concerning the National Advisory Council for Environmental Policy and Technology (NACEPT) can be found on our website (http://www.epa.gov/ocem).

Meeting Access: Individuals requiring special accommodation at this meeting, including wheelchair access to the conference room, should contact Ms. Altieri at least five business days prior to the meeting so that appropriate arrangements can be made.

Dated: June 11, 2003.
Sonia Altieri,
Designated Federal Officer.

[FR Doc. 03-15125 Filed 6-13-03; 8:45 am]

BILLING CODE 6560-50-P